DEPARTMENT OF COMMERCE

Foreign-Trade Zones Board

[Order No. 1450]

Foreign-Trade Zone 202, Los Angeles, California, Citizen Watch Company of America, Inc.

Pursuant to its authority under the Foreign-Trade Zones Act of June 18, 1934, as amended (19 U.S.C. 81a-81u), the Foreign-Trade Zones Board adopts the following Order:

Whereas, the Board of Harbor Commissioners of the City of Los Angeles, California, grantee of Foreign-Trade Zone 202, submitted an application to the Board for authority on behalf of Citizen Watch Company of America, Inc., to process and package watches within FTZ 202 - Site 7, Torrance, California, adjacent to the Los Angeles/Long Beach Customs port of entry (FTZ Docket 51-2005; filed 10/19/05);

Whereas, notice inviting public comment was given in the Federal Register (70 FR 61786, 10/26/05), and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application for authority on behalf of Citizen Watch Company of America, Inc., to process and package watches under FTZ procedures within Site 7 of FTZ 202 in the Los Angeles, California, area, is approved, subject to the Act and the Board's regulations, including Section 400.28.

Signed at Washington, DC, this 15th day of May 2006.

David M. Spooner,
Assistant Secretary of Commerce for Import Administration, Alternate Chairman, Foreign-Trade Zones Board.
Attest:
Dennis Puccinelli,
Executive Secretary.

[FR Doc. E6-7839 Filed 5-22-06; 8:45 am]

BILLING CODE 3510-DS-S